DEPARTMENT OF THE INTERIOR

National Park Service

[NPS-WASO-NRNHL-DTS#-30202; PPWOCRADI0, PCU00RP14.R50000]

National Register of Historic Places; Notification of Pending Nominations and Related Actions

AGENCY: National Park Service, Interior.

ACTION: Notice.

SUMMARY: The National Park Service is soliciting electronic comments on the significance of properties nominated before April 18, 2020, for listing or related actions in the National Register of Historic Places.

DATES: Comments should be submitted electronically by May 22, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before April 18, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Pima County

Bauder, Jean and Paul, House (Boundary Increase II), (Single Family Residential Architecture of Josias Joesler and John and Helen Murphey MPS), 4775 North Camino Antonio, Tucson vicinity, BC100005221

Catalina Townhouses Historic District, 6240 North Campbell Ave., Tucson, SG100005226

Sunshine Mile Historic District, Broadway Blvd. between Euclid & Country Club Rds., Tucson, SG100005229

CALIFORNIA

Los Angeles County

Anderson, Eddie “Rochester,” House, (African Americans in Los Angeles MPS), 1932 Rochester Cir., Los Angeles, MP100005219

San Bernardino County

Pioneertown Mane Street Historic District, Mane St., Pioneertown, SG100005220

Santa Clara County

Zschokke, Theodore, Cottages, 617 and 621 High St., Palo Alto, SG100005218

COLORADO

San Juan County

Frisco-Bagley Mine and Tunnel, (Mining Industry in Colorado, MPS), (Mining Resources of San Juan County, Colorado MPS), Address Restricted, Silverton, MP100005235

ILLINOIS

Du Page County

Chicago Golf Club, 25W253 Warrenville Rd., Wheaton, SG100005231

Iroquois County

Glenwood School, 1398 East 800 North Rd., Cissna Park, SG100005232

St. Clair County

Tiedemann House, 212 West Washington St., O'Fallon, SG100005233

MINNESOTA

Ramsey County

Hope Engine Company No. 3, 1 South Leech St., Saint Paul, SG100005237

PUERTO RICO

Arecibo Municipality

Federico Degetau Consolidated Rural School, (Early Twentieth Century Schools in Puerto Rico TR), Carretera #662 Km. 68, Arecibo vicinity, MP100005236

TEXAS

Hidalgo County

1910 Hidalgo County Jail, 121 East McIntyre St., Edinburg, SG100005230

WISCONSIN

Milwaukee County

37th Street School, 1715 North 37th St., Milwaukee, SG100005225

Additional documentation has been received for the following resources:

ARIZONA

Cochise County

Bisbee Residential Historic District (Additional Documentation), Roughly bounded by the City of Bisbee city limits north of Lavender Pit Mine, excluding existing Bisbee Historic District, Bisbee, AD10000233

Maricopa County

Willo Historic District (Additional Documentation), (Residential Subdivisions and Architecture in Phoenix MPS), Roughly bounded by Edgemont and Cambridge Rds., and 7th and 3rd Aves., Phoenix, AD96001497

Pima County

Jefferson Park Historic District (Additional Documentation), Roughly bounded by Euclid Ave., Grant Rd., Campbell Ave., and alley south of Lester St., Tucson, AD12000241

Yavapai County

Clarkdale Historic District (Additional Documentation), Roughly along Main St., roughly bounded by Verde R. including industrial smelter site, Clarkdale, AD97001586

SOUTH CAROLINA

Richland County

Elmwood Park Historic District (Additional Documentation), Roughly bounded by Elmwood Avenue, Main Street and the SALRR tracks, Columbia, AD91000529

TEXAS

Dallas County

Dallas Downtown Historic District (Additional Documentation), Roughly bounded by Federal St., North St. Paul St., Pacific Ave., Harwood, South Pearl, Commerce, South Ervay, Akard, and Field Sts., Dallas, AD04000894

Authority: Section 60.13 of 36 CFR part 60.

Dated: April 21, 2020.
Julie H. Ernstein,
Supervisory Archeologist, National Register of Historic Places/National Historic Landmarks Program.

[FR Doc. 2020-09715 Filed 5-6-20; 8:45 am]

BILLING CODE 4312-52-P